DEPARTMENT OF ENERGY

Federal Energy Regulatory Commission

[Docket No. CP08-467-000]

Texas Gas Transmission, LLC; Notice of Application

September 9, 2008.

Take notice that on September 2, 2008, Texas Gas Transmission, LLC (Texas Gas), 3800 Frederica Street, Owensboro, Kentucky 42301, filed in Docket No. CP08-467-000, an application pursuant to section 7 of the Natural Gas Act (NGA) and Part 157 of the Commission's Regulations to: (i) Construct, own, operate and maintain a new compressor station located on the Fayetteville Lateral (Bald Knob Compressor Station) in White County, Arkansas, and a new compressor station located on the Greenville Lateral (Isola Compressor Station) in Humphreys County, Mississippi; and (ii) make certain modifications at the existing Greenville compressor station in Washington County, Mississippi, in order to meet the increased capacity demands of their existing mainline system. This project is hereafter referred to as the Fayetteville Shale Compressor Project (Project), and in addition seeking a predetermination that Texas Gas may roll-in the costs of the Project into its approved Incremental Rates for Service on the Fayetteville Lateral and the Greenville Lateral (Lateral Incremental Rates) in the next rate case, all as more fully set forth in the application which is on file with the Commission and open to public inspection. This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 420-5589.

Specifically, the Bald Knob Compressor Station will consist of two 13,330 horsepower (hp) turbine compressor units designed to increase the Fayetteville Lateral's maximum capacity to approximately 1.3 Bcf per day. The Isla Compressor Station will consist of one 13,330 hp turbine compressor unit designed to increase the Greenville Lateral's maximum capacity to approximately 1.0 Bcf per day. The Project is designed to increase the market's access to production from the prolific Fayetteville Shale in an environmentally prudent manner and in a rational time frame that will meet the needs of the market. Chesapeake Energy Corporation (Chesapeake) and XTO Energy Inc. (XTO) are the primary customers supporting this Project, having executed new agreements for the firm transportation capacity created by the project. In addition, Southwestern Energy Company (Southwestern) and Petrohawk Energy Corporation (Petrohawk) have exercised options in their existing agreements that will utilize a portion of the additional firm transportation capacity that will be facilitated by the Project.¹

¹ These options were exercised pursuant to the precedent agreements that these shippers signed in support of the Fayetteville and Greenville Lateral expansion project. See, 123 FERC ¶ 61,118 (2008).

Any questions regarding this application should be directed to J. Kyle Stephens, Vice President of Regulatory Affairs, Boardwalk Pipeline Partners, LP, 9 Greenway Plaza, Suite 2800, Houston, Texas 77046, at (713) 479-8033 or fax at (713) 479-1846.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper. See 18 CFR 385.2001(a)(1)(iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

Comment Date: September 30, 2008.

Kimberly D. Bose,
Secretary.

[FR Doc. E8-21542 Filed 9-15-08; 8:45 am]

BILLING CODE 6717-01-P